OFFICE OF GOVERNMENT ETHICS

Agency Information Collection Activities; Information Collection Renewal; Comment Request for Legal Expense Fund Information Collection

AGENCY: Office of Government Ethics (OGE).

ACTION: Notice of request for agency and public comments.

SUMMARY: After this first round notice and public comment period, the U.S. Office of Government Ethics (OGE) plans to request that the Office of Management and Budget (OMB) renew its approval under the Paperwork Reduction Act for an existing information collection related to OGE's Legal Expense Fund regulation at 5 CFR part 2635, subpart J.

DATES: Written comments by the public and the agencies on this proposed extension are invited and must be received on or before February 17, 2026.

ADDRESSES: Comments may be submitted to OGE by any of the following methods:

Email: usoge@oge.gov (Include reference to “OGE Legal Expense Fund paperwork comment” in the subject line of the message.)

Mail: Office of Government Ethics, Suite 750, 250 E Street SW, Washington, DC 20024, Attention: McEvan Baum, Assistant Counsel.

Instructions: Comments may be posted on OGE's website, www.oge.gov. Sensitive personal information, such as account numbers or Social Security numbers, should not be included. Comments generally will not be edited to remove any identifying or contact information.

FOR FURTHER INFORMATION CONTACT: McEvan Baum at the U.S. Office of Government Ethics; telephone: 202-482-9287; TTY: 800-877-8339; Email: usoge@oge.gov.

SUPPLEMENTARY INFORMATION:

Title: OGE Legal Expense Fund Information Collection.

Type of Information Collection: Extension of a currently approved collection.

Type of Review Request: Regular.

Respondents: Current executive branch employees (and/or their representatives) seeking to accept payments for legal expenses from a legal expense fund or the provision of pro bono legal services for matters arising in connection with the employee's past or current official position, the employee's prior position on a campaign of a candidate for President or Vice President, or the employee's prior position on a Presidential Transition Team; legal expense fund trustees.

Estimated Average Annual Number of Responses: 133.

Total Estimated Time per Response: 5 minutes to 20 hours (see table below for detailed explanation).

Estimated Average Total Annual Burden: 109.2 hours.

OMB Control Number: 3209-0012.

Abstract: On May 25, 2023, OGE published a final rule establishing a framework to govern an executive branch employee's acceptance of payments for legal expenses through a Legal Expense Fund (LEF) for matters arising in connection with the employee's official position, the employee's prior position on a campaign of a candidate for President or Vice President, or the employee's prior position on a Presidential Transition Team. The requirements for establishing and maintaining an LEF are found in 5 CFR part 2635, subpart J (LEF regulation).

The LEF regulation requires that employees who wish to establish a legal expense fund do so through a trust with a single, named employee beneficiary and a trustee. It also requires an employee beneficiary to file quarterly reports that include information (1) regarding members of the public who make financial donations to help pay for the employee beneficiary's legal expenses (donors) and (2) members of the public who receive payments from a legal expense fund (payees). The employee beneficiary must also file a termination report upon the termination of the trust and/or executive branch employment. The trust documents, quarterly reports, and termination reports will be posted directly on OGE's website in accordance with 5 CFR 2635.1007(g). Together, this information collection (IC) is titled “OGE Legal Expense Fund Information Collection.” The IC was approved by OMB and assigned OMB Control Number 3209-0012 on July 21, 2023.

The following table estimates the total annual burden resulting from the OGE Legal Expense Fund Information Collection.

Instrument | Time per response | Number of annual responses | Total burden (hours)
Trust Document | 20 hours | 3 | 60
Quarterly and Termination Reports (beneficiary burden) | 2 hours | 20 | 40
Quarterly and Termination Reports (donor and payee burden) | 5 minutes | 110 | 9.2
Total |  |  | 109.2

OGE estimates that there will be approximately three new legal expense funds filed each year. It is anticipated that there may be an average of five legal expense fund trusts in existence each year. Each trust is anticipated to have approximately 20 donors, whose reporting requirements are tied to the frequency with which they donate, and approximately two payees, who will submit information each time they receive a distribution. The burden for collecting this information from donors and payees is on the trustees. These estimates are based in part on OGE's knowledge of several legal expense funds that have been established for Executive branch employees, as well as OGE's consultation with the U.S. House of Representatives and the U.S. Senate regarding the legal expense funds that they oversee.

Based on the above, OGE estimates an average annual time burden during the next three years of 109.2 hours. Using an estimated rate of $340 per hour for the services of a professional trustee or private representative, the estimated annual cost burden is $37,128.

Under OMB's implementing regulations for the Paperwork Reduction Act, any recordkeeping, reporting, or disclosure requirement contained in a rule of general applicability is deemed to involve ten or more persons. See 5 CFR 1320.3(c)(4)(i).

OGE plans to submit the instruments described above to OMB for a three-year extension of approval without modification, pursuant to the Paperwork Reduction Act of 1995, 44 U.S.C. chapter 35.

Request for Comments: Agency and public comments are invited specifically on the need for and practical utility of this information collection, on the accuracy of OGE's burden estimate, on the enhancement of quality, utility, and clarity of the information collected, and on minimizing the burden to the public. Comments received in response to this notice will be summarized for, and may be included with, the OGE request for extension of OMB approval. The comments will also become a matter of public record.

Specifically, OGE seeks public comment on the following:

1. What problems do you have using the form?

2. Are there sections of the form or instructions that are unclear?

3. Is there information provided that is confusing?

4. What additional information would be helpful?

5. Is it clear from the form that the filing requirement begins once a Legal Expense Fund is approved under Subpart J of 5 CFR part 2635, regardless of whether a reportable contribution or distribution is made during a reporting period?

Authority: 44 U.S.C. 3506(c)(2)(A); 5 CFR 1320.8(d)(1); 5 CFR part 2635, subpart J.

Approved: December 15, 2025.
Shelley K. Finlayson,
Chief of Staff and Chief Counsel, Office of Government Ethics.

[FR Doc. 2025-23267 Filed 12-17-25; 8:45 am]

BILLING CODE 6345-04-P